DEPARTMENT OF HEALTH AND HUMAN SERVICES

Administration on Aging

[Program Announcement No. AoA-02-10]

Fiscal Year 2002 Program Announcement; Availability of Funds and Notice Regarding Applications

AGENCY: Administration on Aging, HHS.

ACTION: Announcement of availability of funds and request for applications.

SUMMARY: The Administration on Aging announces that under this program announcement it will accept applications for funding in fiscal year 2002 under the Older Americans Act, title VI, Grants for Native Americans, part B-Native Hawaiian Program.

Purpose of grant awards: The purpose of these grants is to provide nutrition and supportive services to Native Hawaiian elders.

Eligibility for grant awards and other requirements: Eligibility for grant awards is limited to public and/or nonprofit private organizations having the capacity to provide services for Native Hawaiians that (1) will serve at least 50 Native Hawaiian individuals who have attained 60 years of age or older, and (2) demonstrates the ability to deliver supportive services and nutrition services. For the purposes of title VI, part B, the term “Native Hawaiian” means an individual any of whose ancestors were natives of the area, which consists of the Hawaiian Islands prior to 1778.

DATES: The deadline date for the submission of applications is August 20, 2002.

ADDRESSES: Application kits are available by writing to the U.S. Department of Health and Human Services, Administration on Aging, Yvonne Jackson, Director, Office of American Indian, Alaskan Native and Native Hawaiian Programs, 330 Independence Ave., SW., Washington, DC 20201 or by calling 202/619-2713. Applications must be postmarked on or before August 20, 2002. An original and two copies of the application are to be mailed to Margaret A. Tolson, Director, Office of Grants Management, 330 Independence Ave., SW., Washington, DC 20201.

Dated: May 30, 2002.
Josefina G. Carbonell,
Assistant Secretary for Aging.

[FR Doc. 02-15654 Filed 6-20-02; 8:45 am]

BILLING CODE 4154-01-P